SECURITIES AND EXCHANGE COMMISSION

[Release No. 34-76575; File No. SR-CBOE-2015-101]

Self-Regulatory Organizations; Chicago Board Options Exchange, Incorporated; Notice of Withdrawal of Proposed Rule Change To Amend the Fees Schedule

December 7, 2015.

On November 2, 2015, the Chicago Board Options Exchange, Incorporated (“Exchange”) filed with the Securities and Exchange Commission (“Commission”), pursuant to Section 19(b)(1) of the Securities Exchange Act of 1934 ¹ and Rule 19b-4 thereunder,² a proposed rule change to amend the Exchange's fees schedule. The proposed rule change was published for comment in the Federal Register on November 25, 2015.³ The Commission received no comment letters on the proposal. On December 1, 2015, the Exchange withdrew the proposed rule change (SR-CBOE-2015-101).

¹ 15 U.S.C. 78s(b)(1).

² 17 CFR 240.19b-4

³ See Securities Exchange Act Release No. 34-76442 (November 16, 2015), 80 FR 72761.

⁴ 17 CFR 200.30-3(a)(12).

For the Commission, by the Division of Trading and Markets, pursuant to delegated authority.⁴
Brent J. Fields,
Secretary.

[FR Doc. 2015-31179 Filed 12-10-15; 8:45 am]

BILLING CODE 8011-01-P